DEPARTMENT OF ENERGY

Federal Energy Regulatory Commission

Notice of Application Accepted for Filing, and Soliciting Comments, Motions To Intervene, and Protests

December 5, 2003.

Take notice that the following hydroelectric application has been filed with the Commission and is available for public inspection:

a. Type of Application: License amendment for non-project use of project lands and waters.

b. Project No.: 1951-114.

c. Date Filed: September 3, 2003.

d. Applicant: Georgia Power.

e. Name of Project: Sinclair Project.

f. Location: Sinclair Project reservoir on the Oconee River, in Baldwin and Putnam Counties, Georgia.

g. Filed Pursuant to: Federal Power Act, 16 U.S.C. 791(a)-825(r).

h. Applicant Contact: Mr. Scott Hendricks, Georgia Power, 241 Ralph McGill Blvd., Atlanta, GA 30308-3374, (404) 506-2392.

i. FERC Contact: Ms. Monica Maynard, (202) 502-6013.

j. Deadline for filing motions to intervene, protests and comments: January 5, 2004. The Commission's Rules of Practice and Procedure require all interveners filing documents with the Commission to serve a copy of that document on each person in the official service list for the project. Further, if an intervener files comments or documents with the Commission relating to the merits of an issue that may affect the responsibilities of a particular resource agency, they must also serve a copy of the document on that resource agency.

k. Description of Proposed Action: The Applicant seeks to allow the Amherst County Service Agency (ACSA) withdraw up to 2 MGD from the James River within the Reusens Project boundary during drought emergencies. The Applicant would allow the ACSA to temporarily install a pump and screened intake pipe to move water from the project reservoir into pipe leading to its water drinking water supply system during drought emergency conditions.

l. The filings are available for review at the Commission in the Public Reference Room or may be viewed on the Commission's Web site at http://www.ferc.gov using the “FERRIS” link. Enter the docket number excluding the last three digits in the docket number field to access the document. For assistance, call toll-free 1-866-208-3676 or e-mail FERCOnlineSupport@ferc.gov. For TTY, call (202) 502-8659. A copy is also available for inspection and reproduction at the addresses in item h.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

p. Agency Comments—Federal, State, and local agencies are invited to file comments on the described applications. A copy of the applications may be obtained by agencies directly from the Applicant. If an agency does not file comments within the time specified for filing comments, it will be presumed to have no comments. One copy of an agency's comments must also be sent to the Applicant's representatives.

q. Comments, protests, and interventions may be filed electronically in the Internet in lieu of paper. The Commission strongly encourages electronic filings. See CFR 18 385.2001(a)(l)(iii) and the instructions on the Commission's Web site, http://ferc.gov under the “e-filing” link.

Magalie R. Salas,
Secretary.

[FR Doc. E3-00534 Filed 12-11-03; 8:45 am]

BILLING CODE 6717-01-P